DEPARTMENT OF TRANSPORTATION

Federal Highway Administration

Environmental Impact Statement: City and Borough of Sitka, AK

AGENCY: Federal Highway Administration (FHWA), DOT.

ACTION: Notice of intent.

SUMMARY: The FHWA is issuing this notice to advise the public that an environmental impact statement will be prepared for improved access to Sitka, Alaska. The project is located on Baranof Island within the Northern Panhandle Region of Southeast Alaska.

FOR FURTHER INFORMATION CONTACT: Edrie Vinson, Environmental Project Manager, Federal Highway Administration, Alaska Division, P.O. Box 21648, Juneau, Alaska 99802-1648, (907) 586-7418, fax: (907) 586-7420, e-mail: edrie.vinson@fhwa.dot.gov or Andy Hughes, Regional Planning Chief, Alaska Department of Transportation & Public Facilities (ADOT&PF), 6860 Glacier Highway, Juneau, Alaska 99801; (907) 465.1776, fax (907) 465.2016, e-mail andy_hughes@dot.state.ak.us.

SUPPLEMENTARY INFORMATION: The FHWA, in cooperation with ADOT&PF, will prepare an environmental impact statement (EIS) on a proposal to improve transportation access to the City and Borough of Sitka, Alaska. Sitka is on the west side of Baranof Island, and has unsheltered exposure to the Pacific Ocean. Currently, access to Sitka is limited to air service and service by Alaska Marine Highway System (AMHS) ferries and commercial freight. Strong tidal currents through Sergins Narrows in Peril Strait constrain AMHS ferry service and commercial marine freight service schedules. These scheduling issues affect Sitka and other Northern Panhandle communities that rely on marine transportation and freight services.

The Sitka Access EIS will evaluate alternatives to improve access to Sitka. The alternatives considered may allow for more convenient and frequent surface transportation at lower cost to the user and AMHS. The EIS will consider a range of alternatives including: (a) No Action; (b) new road links between Sitka and new ferry/marine terminals on the east side of Baranof Island with ferry service links to other communities, and; (c) all marine alternatives linking directly to Sitka or to a transfer facility and then Sitka. Below is a brief description of several possible alternatives that may meet the goals of the proposed project.

(1) Constructing a new road from Sitka north and east to Rodman Bay and constructing and operating a new ferry/marine terminal with ferry service links to other communities. This would allow marine transportation and freight services to avoid the restrictive Sergins Narrows.

(2) Constructing a road due east of Sitka to Warm Springs Bay and constructing and operating a new ferry/marine terminal with ferry service links to other communities. Included in this road would be an approximately two-mile-long tunnel through mountainous terrain. This alternative would allow marine transportation and freight services to completely avoid the Peril Straits.

(3) Constructing an AMHS transfer facility on Chatham Strait where passengers and freight would disembark and re-board a vessel that is not restricted by the tidal currents in Sergins Narrows such as a fast shuttle ferry. These fast shuttle ferries would then connect to the existing Sitka Terminal.

(4) Fast Vehicle Ferry service linking Sitka to Juneau, Petersburg or other surrounding communities.

During the scoping process, the FHWA and the ADOT&PF will solicit input from the public and interested agencies on the alternatives to be considered and the nature and extent of issues and impacts to be addressed in the EIS and the methods by which they will be evaluated.

Questionnaires, public notices and newsletters describing the proposed action alternatives and soliciting comments will be sent to appropriate Federal, State, and local agencies, tribes, private organizations, and citizens who have previously expressed or are known to have interest in this proposal.

Public scoping meetings will be held between December 2004 and January 2005 at each of the following communities: Angoon, Baranof Warm Springs, Elfin Cove, Gustavus, Hoonah, Kake, Pelican, Port Alexander, Sitka, Tenakee Springs, Juneau and Petersburg. As the meeting dates approach, a public notice announcing the exact date, time and location of the meetings will be published in the Juneau Empire, Sitka Sentinel, Petersburg Pilot, and the Capital City Weekly. The comment period will be provided.

Contact information for people with special needs will be included in the public notice announcements.

Two agency scoping meetings, one in Juneau and one in Sitka, will be held in December 2004. Agency staff will be given an opportunity to express their concerns, ask questions, and provide written comment. The ADOT&PF will contact the agencies by mail with the exact date, time, and location of the meetings. The agency comment period will be provided.

To ensure that the full range of issues related to this proposed action are addressed and all significant issues identified, comments and suggestions are invited from all interested parties. Comments or questions concerning this proposed action and the EIS should be directed to the FHWA or the ADOT&PF at the addresses provided above.

(Catalog of Federal Domestic Assistance Program Number 20.205, Highway Planning and Construction. The regulations implementing Executive Order 12372 regarding intergovernmental consultation on Federal programs and activities apply to this program.)

Issued on: October 25, 2004.
Karen A. Schmidt,
Assistant Division Administrator, Juneau, Alaska.

[FR Doc. 04-24588 Filed 11-3-04; 8:45 am]

BILLING CODE 4910-22-M